DEPARTMENT OF COMMERCE

Notice of Performance Review Board Members

AGENCY: Economics and Statistics Administration.

ACTION: Performance Review Board Membership.

SUMMARY: Below is a listing of individuals who are eligible to serve on the Performance Review Board in accordance with the Economics and Statistics Administration's Senior Executive Service and Senior Professional Performance Management Systems:

Thomas L. Mesenbourg

Shirin Ahmed

Mark Wallace

William G. Bostic, Jr.

Daniel Weinberg

Nancy M. Gordon

Arnold A. Jackson

Theodore A. Johnson

Ruth Ann Killion

Andrew Moxam

Michael J. Longini

Francis Grailand Hall

Brian Monaghan

C. Harvey Monk

Daniel Weinberg

Tommy Wright

William Bell

Michael Palensky

James Tyler, Jr.

Douglas Clift

Marilia Matos

David Hackbarth

Jeffrey Mayer

Enrique Lamas

Thomas Zabeisky

David Whitford

Frank Vitrano

Susan Schechter Bortner

Howard Hogan

David Johnson

Cheryl Landman

David F. Findley

Paul Friday

J. Steven Landefeld

Rosemary D. Marcuss

Dennis J. Fixler

Brent R. Moulton

Joel Platt

James K. White

Dr. Jennifer Madans

FOR FURTHER INFORMATION CONTACT: Crystal Roy, 301-763-3727.

Dated: August 6, 2008.
James K. White,
Associate Under Secretary for Management Chair, Performance Review Board.

[FR Doc. E8-19147 Filed 8-19-08; 8:45 am]

BILLING CODE 3510-BS-M